DEPARTMENT OF COMMERCE

U.S. Census Bureau

Proposed Information Collection; Comment Request; 2013-2015 American Community Survey Methods Panel Testing

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 25, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Cheryl Chambers, U.S. Census Bureau, American Community Survey Office, Washington, DC 20233, by FAX to (301) 763-8070 or email at acso.communications@census.gov.

SUPPLEMENTARY INFORMATION:

I. Abstract

The American Community Survey (ACS) collects detailed socioeconomic data from about 3.5 million households in the United States and 36,000 in Puerto Rico each year. The ACS also collects detailed socioeconomic data from about 195,000 residents living in Group Quarter (GQ) facilities. Resulting tabulations from that data collection are provided on a yearly basis. The ACS allows the Census Bureau to provide timely and relevant housing and socio-economic statistics for even low levels of geography.

An ongoing data collection effort with an annual sample of this magnitude requires that the ACS continue research, testing and evaluations aimed at improving data quality, achieving survey cost efficiencies, and improving ACS questionnaire content and related data collection materials. The ACS Methods Panel is a research program that is designed to address and respond to survey issues and needs. During the 2013-2015 period, the Methods Panel may include testing methods for increasing survey efficiencies, reducing survey cost, lessening respondent burden, and improving response rates. Testing may also include methods that might increase data quality. At this time, plans are in place to propose several tests: A 2013 Questionnaire Design Test, a 2015 ACS Content Test, and a series of Internet tests. Since the ACS Methods Panel is designed to address emerging issues, we may conduct additional testing as needed. Testing would focus on methods for reducing data collection costs, improving data quality or testing new questions that have an urgent need to be included on the ACS.

During the 2010 Content Test, the Census Bureau determined that the ACS paper questionnaire did not contain enough space to accommodate certain configurations of proposed content changes. Thus, we need to test an alternative questionnaire design to accommodate additional content on the ACS mail questionnaire. In the 2013 ACS Questionnaire Design Test, we will study the impact of a longer (36-page) questionnaire against our current 28-page form. We will also study whether changing the size of the form to a standard size (8.5″x11″) booklet has an impact on response, compared to both the 28-page (current ACS form) and 36-page forms. The results of this testing will help the Census Bureau to decide which questionnaire format change performs best on response and data quality.

This test will also include several changes to evaluate making the questionnaire more compatible with optical character recognition software, including altering the response box formats for numeric write-in fields to allow them to be captured automatically rather than keyed. It will help provide insight on how effective the new response boxes are at reducing keying, and thus the potential cost savings. Lastly, this test will include a quick look at variations in the relationship and marital status questions per the Office of Management and Budget (OMB) initiative to ensure these questions are inclusive of all relationship types and partnerships.

Second, in response to Federal agencies' requests for new and revised ACS questions, the Census Bureau plans to conduct the 2015 ACS Content Test. Changes to the current ACS content and the addition of new content will be identified through the OMB Interagency Committee for the ACS in 2013. The objective of the 2015 ACS Content Test, for both new and existing questions, is to determine the impact of changing question wording, response categories, and redefinition of underlying constructs on the quality of the data collected. The Census Bureau proposes to evaluate changes to the questions by comparing the revised questions to the current ACS questions, or for new questions, to compare the performance of question versions to each other as well as to other well-known sources of such information.

The Census Bureau conducted two Internet tests on the ACS in 2011, both of which studied the impact of different notifications of an Internet option in the survey invitations. Based on these tests, the ACS plans to begin collecting data using the Internet in January 2013. One problem detected in the 2011 tests was the impact of Internet break-offs on item nonresponse for questions in the later part of the survey. The Internet tests in 2013-2015 will look at potential ways to restructure messaging and change the Internet design to help reduce break-offs, lower item nonresponse and encourage response in a timely manner. We will also reexamine the possibility of using the Internet to collect data in Puerto Rico.

II. Method of Collection

Questionnaire Design Test—Data collection for this test will follow the same protocol proposed for ACS production starting in 2013. That is, the first mailing to sampled cases will ask them to use the Internet to respond to the survey. If they have not responded within about two and a half weeks, they will receive a paper questionnaire. By using the standard ACS protocol for this test, we can see whether the paper form design has any impact on overall self-response, and also on response by Internet or mail. We will not conduct Computer-Assisted Telephone Interviews (CATI) or Computer-Assisted Personal Interviews (CAPI) nonresponse follow-up on test cases.

2015 Content Test—The ACS Content Test data collection protocol will be based on the protocol used in the production ACS. That is, we will collect data across four modes (Internet, mail, CATI and CAPI). During CATI and CAPI interviews in the 2015 Content Test, we will use Computer Audio Recorded Interviewing (CARI) technology to record portions of the interview related to the questions being tested for use in behavior coding. There will also be a Content Follow-up reinterview as part of the content test where we will attempt a follow-up CATI reinterview with all households that responded in the field test and for whom we have a telephone number. This reinterview will focus on the particular questions that we are evaluating in the field test, and will not include every question asked in the original interview.

Internet Tests—We will use the same modes we offer in ACS production in the first month of data collection for the Internet tests; that is, we will send a mailing asking sampled units to respond online, with a nonresponse follow-up mailing of a paper questionnaire about two and a half weeks later. There are no plans to conduct CATI or CAPI nonresponse follow-up on test cases.

III. Data

OMB Control Number: 0607-0936.

Form Number: ACS-1, ACS-1(PR)SP, ACS CATI(HU), ACS CAPI(HU) and ACS RI(HU).

Type of Review: Regular submission.

Affected Public: Individuals, households, and GQ facilities.

Estimated Number of Respondents: We plan to contact the following number of respondents: Questionnaire Design Test: 40,000 sampled addresses; 2013-2015 Internet Tests, 200,000 sampled addresses in United States, 4,000 in Puerto Rico; 2015 Content Test: 70,000 sampled addresses during the field test and 40,000 responding addresses during the content follow-up conducted by telephone. Other potential testing includes a second Content Reinterview survey (as a follow-up to the 2012 Content Reinterview Survey) to assess data quality: 90,000 sampled households from ACS production; follow-up testing as needed from the Questionnaire Design Test: 20,000 sampled addresses; and potential testing of methodological changes to the administration of the ACS in Group Quarter facilities (Two tests of 75 facilities each with 15 residents selected in each facility (approximately 1,125 residents in each test)).

Estimated Time per Response: Estimates are: Questionnaire Design Test: 40 minutes; Internet Test, 40 minutes; Content Test field test, 40 minutes, Content Test follow-up, 15 minutes; Content Reinterview Study, 20 minutes; other potential test for questionnaire design and Group Quarters testing, 40 minutes.

Estimated Total Annual Burden Hours: The estimate is an annual average of 87,771 hours.

Estimated Total Annual Cost: Except for their time, there is no cost to respondents.

Respondent Obligation: Mandatory.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2012.
Glenna Mickelson,
Management Analyst, Office of the Chief Information Officer.

[FR Doc. 2012-9939 Filed 4-24-12; 8:45 am]

BILLING CODE 3510-07-P